NATIONAL CAPITAL PLANNING COMMISSION

Notice of Final Adoption and Effective Date for the Introduction Chapter Updates of the Comprehensive Plan for the National Capital: Federal Elements

AGENCY: National Capital Planning Commission.

ACTION: Notice of final adoption and effective date.

SUMMARY: The National Capital Planning Commission (NCPC) adopted updates to the Introduction Chapter of the Comprehensive Plan for the National Capital: Federal Elements on January 8, 2026. The chapter establishes the planning framework for the Comprehensive Plan's Federal Elements to guide agency actions, including review of projects and long-range plans that affect federal buildings, installations, campuses, and master plans in the National Capital Region. The Introduction Chapter is available online at: https://www.ncpc.gov/plans/compplan/.

DATES: The revised Introduction Chapter will become effective February 12, 2026.

FOR FURTHER INFORMATION CONTACT: Email compplan@ncpc.gov.

Authority: 40 U.S.C. 8721(a).

Dated: January 8, 2026.
Meghan Hottel-Cox,
General Counsel and Secretariat, National Capital Planning Commission.

[FR Doc. 2026-00474 Filed 1-12-26; 8:45 am]

BILLING CODE 7502-02-P